GENERAL SERVICES ADMINISTRATION

41 CFR Part 301-11

[FTR Amendment 2015-05; FTR Case 2015-302; Docket No. 2015-0012; Sequence No. 1]

RIN 3090-AJ62

Federal Travel Regulation; Temporary Duty (TDY) Travel Allowances

AGENCY: Office of Government-wide Policy (OGP), General Services Administration (GSA).

ACTION: Final rule.

SUMMARY: GSA is amending the Federal Travel Regulation (FTR) by removing the meals and incidental expenses (M&IE) breakdown table from the regulation. The table will continue to be published on GSA's Web site at www.gsa.gov/mie and any changes to the breakdown of M&IE reimbursement rates will be publicized via FTR Bulletins.

DATES: Effective: This rule is effective on July 29, 2015.

Applicability date: This rule is applicable beginning October 1, 2015.

FOR FURTHER INFORMATION CONTACT: Ms. Marcerto Barr, Office of Government-wide Policy (MAE), General Services Administration, at 202-208-7654 or email at marcerto.barr@gsa.gov for clarification of content. For information pertaining to status or publication schedules, contact the Regulatory Secretariat at 202-501-4755. Please cite FTR Amendment 2015-05, FTR case 2015-302.

SUPPLEMENTARY INFORMATION:

A. Background

In order to be more efficient and consistent, and in an effort to eliminate duplication, GSA is removing the M&IE breakdown table from the FTR and solely maintaining it on GSA's Web site at www.gsa.gov/mie. The table has been on this Web site for several years and can be updated quickly and efficiently. Changes to per diem reimbursement rates for lodging and M&IE are currently publicized by FTR bulletins and rates are published solely on GSA Web site's. Similarly, any future changes to the M&IE breakdown table will also be publicized in FTR Bulletins notifying agencies of updates to the per diem rates for lodging and M&IE.

B. Executive Orders 12866 and 13563

Executive Orders (E.O.s.) 12866 and 13563 direct agencies to assess all costs and benefits of available regulatory alternatives, and if regulation is necessary, to select regulatory approaches that maximize net benefits (including potential economic, environmental, public health and safety effects, distributive impacts, and equity). E.O. 13563 emphasizes the importance of quantifying both costs and benefits, of reducing costs, of harmonizing rules, and of promoting flexibility. This is not a “significant regulatory action,” and therefore, was not subject to review under section 6(b) of E.O. 12866, Regulatory Planning and Review, dated September 30, 1993. The final rule has been reviewed by the Office of Management and Budget. This final rule is not a major rule under 5 U.S.C. 804.

C. Regulatory Flexibility Act

This final rule will not have a significant economic impact on a substantial number of small entities within the meaning of the Regulatory Flexibility Act, 5 U.S.C. 601, et seq. This final rule is also exempt from Administrative Procedure Act per 5 U.S.C. 553(a)(2), because it applies to agency management or personnel.

D. Paperwork Reduction Act

The Paperwork Reduction Act does not apply because the changes to the Federal Travel Regulation do not impose recordkeeping or information collection requirements, or the collection of information from offerors, contractors, or members of the public that require the approval of the Office of Management and Budget under 44 U.S.C. 3501, et seq.

E. Small Business Regulatory Enforcement Fairness Act

This final rule is also exempt from Congressional review prescribed under 5 U.S.C. 801 since it relates solely to agency management and personnel.

List of Subjects in 41 CFR Part 301-11

Government employees, per diem reimbursement, M&IE allowance, Travel and transportation.

Dated: July 9, 2015.
Denise Turner Roth,
Acting Administrator of General Services.

For the reasons set forth in the preamble, under 5 U.S.C. 5701-5707, GSA is amending 41 CFR part 301-11, as set forth below:

PART 301-11—PER DIEM EXPENSES

1. The authority for part 301-11 continues to read as follows:

Authority: 5 U.S.C. 5707.

§ 301-11.18 [Amended]

2. Amend § 301-11.18 by:

A. Removing from paragraph (a) the phrase “in the chart in this section” and adding the phrase “at www.gsa.gov/mie” in its place; and

B. Removing the table “Total M&IE” at the end of paragraph (a).

[FR Doc. 2015-18289 Filed 7-28-15; 8:45 am]

BILLING CODE 6820-14-P